Title 3—

The President

Proclamation 7935 of September 21, 2005

Gold Star Mother's Day, 2005

By the President of the United States of America

A Proclamation

The men and women of America's Armed Forces selflessly serve to protect our Nation, and they are among our greatest heroes. From the trenches of World War I to the beaches of Normandy, from Korea to Vietnam, from Afghanistan to Iraq, many courageous members of our military have given their lives so that Americans could live in freedom and security. On Gold Star Mother's Day, we recognize and pray for the devoted and patriotic mothers of these men and women in uniform who have made the ultimate sacrifice in defense of our liberty.

America's Gold Star Mothers carry a great burden of grief, yet they show a tremendous spirit of generosity in helping their fellow citizens. With kindness and understanding, they support members of our Armed Forces and their families, provide vital services to veterans, help to educate young people about good citizenship and our Nation's founding ideals, and bring comfort to many in need. We commend these proud women for their compassion, commitment, and patriotism, and our Nation will always honor them for their sacrifice and service.

The Congress, by Senate Joint Resolution 115 of June 23, 1936 (49 Stat. 1895 as amended), has designated the last Sunday in September as “Gold Star Mother's Day” and has authorized and requested the President to issue a proclamation in its observance. On this day, we express our deep gratitude to our Nation's Gold Star Mothers, and we ask God's blessings on them and on their families.

NOW, THEREFORE, I, GEORGE W. BUSH, President of the United States of America, do hereby proclaim Sunday, September 25, 2005, as Gold Star Mother's Day. I call upon all Government officials to display the flag of the United States over Government buildings on this solemn day. I also encourage the American people to display the flag and hold appropriate ceremonies as a public expression of our Nation's sympathy and respect for our Gold Star Mothers.

IN WITNESS WHEREOF, I have hereunto set my hand this twenty-first day of September, in the year of our Lord two thousand five, and of the Independence of the United States of America the two hundred and thirtieth.

B

[FR Doc. 05-19305

Filed 9-23-05; 9:27 am]

Billing code 3195-01-P